FEDERAL MARITIME COMMISSION

Ocean Transportation Intermediary License Reissuance

The Commission gives notice that the following Ocean Transportation Intermediary license has been reissued pursuant to section 19 of the Shipping Act of 1984 (46 U.S.C. 40101).

License No.: 024273N.

Name: Evgeny Lavrentev dba Galaxy Enterprises LA.

Address: 14732 Calvert Street, Van Nuys, CA 91411.

Date Reissued: May 28, 2014.

Sandra L. Kusumoto,
Director, Bureau of Certification and Licensing.

[FR Doc. 2014-16473 Filed 7-14-14; 8:45 am]

BILLING CODE 6730-01-P